DEPARTMENT OF TRANSPORTATION

Docket: RSPA-98-4957

Notice: Request for Extension of Existing Information Collection

AGENCY: Research and Special Programs Administration, DOT.

ACTION: Notice and request for public comments.

SUMMARY: In accordance with the Paperwork Reduction Act of 1995, the Research and Special Programs Administration (RSPA) published its intention to request extension of an information collection in support of the Office of Pipeline Safety (OPS) for Response Plans for Onshore Oil Pipelines. This notice was published on October 2, 2002 (67 FR 61951-2). No comments were received. The public is being given an additional opportunity to comment.

DATES: Comments on this notice must be received by January 23, 2003 to be assured of consideration.

FOR FURTHER INFORMATION CONTACT: Marvin Fell, OPS, RSPA, Department of Transportation, 400 Seventh Street, SW., Washington, DC 20950, (202) 366-6205 or by electronic mail at Marvin.fell@rspa.dot.gov.

SUPPLEMENTARY INFORMATION: Title: Response Plans for Onshore Oil Pipelines.

OMB Number: 2137-0589.

Type of Request: Extension of an existing information collection.

Abstract: The Oil Pollution Act of 1990 (OPA 90) requires that certain pipelines that transport oil must develop a response plan to minimize the impact of an oil discharge in the case of an accident. These response plans enhance the spill response capability of pipeline operators.

Respondents: Oil Pipeline operators.

Estimated Number of Respondents: 233.

Estimated Total Annual Burden on Respondents: 29,780 hours annually.

Frequency: Every five years.

Use: To enhance response capability in the event of an oil spill.

Regulation: 49 CFR 194.

Copies of this information collection can be reviewed at the Dockets Facility, Plaza 401, U.S. Department of Transportation, 400 Seventh St., SW., Washington, DC 20590 Monday through Friday from 10 a.m. to 4 p.m., excluding Federal holidays. Comments can be reviewed electronically on the World Wide Web at dms.dot.gov.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Send written comments directly to Office of Management and Budget, Office of Regulatory Affairs, Attn: Desk Officer for the Department of Transportation, 726 Jackson Place, NW., Washington, DC 20503.

Issued in Washington, DC, on December 10, 2002.
Richard D. Huriaux,
Manager, Regulations, Office of Pipeline Safety.

[FR Doc. 02-32268 Filed 12-23-02; 8:45 am]

BILLING CODE 4910-60-P